DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education.

Dates and Times: November 8, 2011, 8:30 a.m.-5:15 p.m.; November 10, 2011, 8:30 a.m.-4:30 p.m.

Place: Georgetown University Hotel & Conference Center, 3800 Reservoir Road, NW., Washington, DC 20057.

Status: The meeting will be open to the public.

Purpose: The Council on Graduate Medical Education (“The Council”) was authorized by Congress in 1986 to provide an ongoing assessment of physician workforce trends, training issues, and financing policies, and to recommend appropriate Federal and private sector efforts to address identified needs. The Council provides advice and recommendations to the Secretary of the U.S. Department of Health and Human Services (HHS), the Senate Committee on Health, Education, Labor and Pensions, and the House of Representatives Committee on Energy and Commerce.

At this meeting there will be a number of speakers who will address issues relating to the Council's 21st report on ensuring that the supply of physicians meets the needs of the Nation. Some meeting time will be devoted to developing recommendations and an outline for the report. There also will be a discussion of the Council's new legislative authorities relating to performance measures and longitudinal evaluation. Reports are submitted to the Secretary of the Department of Health and Human Services; the Committee on Health, Education, Labor and Pensions of the Senate; and the Committee on Energy and Commerce of the House of Representatives.

Agenda

The meeting on Tuesday, November 8, 2011, will begin with welcoming remarks from the Division of Medicine and Dentistry within the Health Resources and Services Administration's Bureau of Health Professions (BHPr). Speakers during the morning session will address critical issues relating to the projected physician shortages, indirect medical education funding, and provider training at critical access hospitals. Speakers in the afternoon will address implications of reduced funding for graduate medical education (GME), the reconfiguring of health professions training programs at the Veteran's Administration, and the Macy Foundation's recommendations for GME reform. There also will be a panel discussion on whether the current number of physicians being trained will meet future demand.

The meeting on November 10, 2011 will start with a presentation on teaching health centers. This will be followed by a session on new authorities, added by the Affordable Care Act, requiring the Committee to develop performance measures and methods of longitudinal evaluation of relevant training programs. There also will be time allotted for members to begin drafting recommendations and an outline for the 21st report on ensuring physician supply for the future. Opportunity for public comment will be provided at the end of each day.

For Further Information Contact: Anyone interested in obtaining a roster of members or other relevant information should write or contact Jerilyn K. Glass, M.D., PhD, Division of Medicine and Dentistry, Bureau of Health Professions, Health Resources and Services Administration, Room 9A-27, Parklawn Building, 5600 Fishers Lane, Rockville, Maryland 20857; Telephone (301) 443-7271. The web address for information on the Advisory Committee is http://www.hrsa.gov/advisorycommittees/bhpradvisory/cogme/index.html.

The Council will join the three other advisory committees in the Bureau of Health Professions for the fourth BHPr All-Advisory Committee Meeting on Wednesday, November 9, 2011. Please refer to the Federal Register notice for the BHPr All-Advisory Committee Meeting for additional details.

Dated: October 13, 2011.
Reva Harris,
Acting Director, Division of Policy and Information Coordination.

[FR Doc. 2011-27030 Filed 10-18-11; 8:45 am]

BILLING CODE 4165-15-P